DEPARTMENT OF COMMERCE

International Trade Administration

[A-533-810]

Stainless Steel Bar from India: Notice of Preliminary Results and Partial Rescission of Antidumping Duty Administrative Review

Correction

In notice document E8-4245 beginning on page 12382 in the issue of Friday, March 7, 2008, make the following correction:

On page 12387 in the second column, in the Dated heading, “September 28, 2008.” should read “February 28, 2008”.

[FR Doc. Z8-4245 Filed 3-19-08; 8:45 am]

BILLING CODE 1505-01-D

DEPARTMENT OF TRANSPORTATION

Federal Aviation Administration

14 CFR Part 71

[Docket No. FAA-2008-0059; Airspace Docket No. 08-ANE-90]

Establishment of Class E Airspace; Fort Kent, ME

Correction

In rule document 08-734 beginning on page 9451 in the issue of Thursday, February 21, 2008, make the following correction:

On page 9452, in the first column, under “Rule” heading, in the seventh line, “011” should read “001”.

[FR Doc. Z8-734 Filed 3-19-08; 8:45 am]

BILLING CODE 1505-01-D